SECURITIES AND EXCHANGE COMMISSION

[Release No. 34 94729; File No. SR-BOX-2022-08]

Self-Regulatory Organizations; BOX Exchange LLC; Notice of Filing of Proposed Rule Change To Amend Rule 12140 (Imposition of Fines for Minor Rule Violations), To Expand the List of Violations Eligible for Disposition Under the Exchange's Minor Rule Violation Plan and Update the Fine Schedule Applicable to Certain Minor Rule Violations

Correction

In notice document 2022-08481 beginning on page 23893 in the issue of Thursday, April 21, 2022, make the following correction:

On page 23903, in the third column, in the first paragraph, in the last line “April 21, 2022” should read “May 12, 2022”.

[FR Doc. C1-2022-08481 Filed 4-27-22; 8:45 am]

BILLING CODE 0099-10-D